DEPARTMENT OF LABOR

Employment and Training Administration

TA-W-64,733

Modine Manufacturing, Truck Division, Including On-Site Leased Workers From Staffmark, Lawrenceburg, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of Modine Manufacturing, Truck Division, Lawrenceburg, Tennessee. The notice was published in the Federal Register on February 10, 2009 (74 FR 6652).

At the request of the State agency, the Department reviewed the certification for workers of the subject firm. The workers are engaged in the production of charged air coolers, air filters, and oil coolers used in trucks.

New information provided by the company shows that workers leased from Staffmark were employed on-site at Modine Manufacturing, Truck Division, Lawrenceburg, Tennessee.

The intent of the Department's certification is to include all workers at the subject firm who were adversely affected by the shift in production of charged air coolers, air filters, and oil coolers to Mexico.

The Department has determined that these workers were sufficiently under the control of Modine Manufacturing to be considered leased workers.

Based on these findings, the Department is amending this certification to include workers leased from working on-site at the Lawrencebury, Tennessee location of the subject firm.

The amended notice applicable to TA-W-64,733 is hereby issued as follows:

“All workers of Modine Manufacturing, Truck Division, Lawrenceburg, Tennessee, including on-site leased workers from Staffmark, who became totally or partially separated from employment on or after December 17, 2007 through January 29, 2011, are eligible to apply for adjustment assistance under Section 223 of the Trade Act of 1974, and are also eligible to apply for alternative trade adjustment assistance under Section 246 of the Trade Act of 1974.”

Signed in Washington, DC, this 6th day of March 2009.
Linda G. Poole,
Certifying Officer, Division of Trade Adjustment Assistance.

[FR Doc. E9-6241 Filed 3-20-09; 8:45 am]

BILLING CODE 4510-FN-P